DEPARTMENT OF THE INTERIOR

National Park Service

Notice of Intent to Repatriate a Cultural Item: U.S. Department of the Interior, National Park Service, Tumacacori National Historical Park, Tumacacori, AZ

AGENCY: National Park Service, Interior.

ACTION: Notice.

Notice is here given in accordance with the Native American Graves Protection and Repatriation Act (NAGPRA), 25 U.S.C. 3005, of the intent to repatriate a cultural item in the possession of the U.S. Department of the Interior, National Park Service, Tumacacori National Historical Park, Tumacacori, AZ, that meets the definition of “sacred objects” under 25 U.S.C. 3001.

This notice is published as part of the National Park Service's administrative responsibilities under NAGPRA, 25 U.S.C. 3003 (d)(3). The determinations in this notice are the sole responsibility of the superintendent, Tumacacori National Historical Park.

At an unknown date and under unknown circumstances, a buckskin object was acquired by Tumacacori National Historical Park. Originally identified as a buckskin “shield”, the item was described as “possibly a removable cover for a raw hide shield. Feathers are eagle and red-tail hawk, attached to the black satin ribbon sewn to upper third perimeter, hanging streamer on both sides. Buckskin is painted in yellow, black, blue, on both sides. Buckskin around frame sewn w/buckskin, feathers also sewn with buckskin. Other sewing w/ heavy commercial thread.”

Consultation between Tumacacori National Historical Park and the Mescalero Apache Tribe of the Mescalero Reservation, New Mexico, indicates that the object is not a shield, but rather a sacred object that is used in traditional prayer ceremonies. The design and style of manufacture indicate the object is Mescalero Apache in origin. Such an object would be manufactured for a specific ceremony, which usually is held annually. Typically four such objects were manufactured at the same time and, as part of a prayer or blessing ceremony, placed outside in the four directional corners of an area that would be a homeland to a group of Mescalero Apaches.

Officials of Tumacacori National Historical Park have determined that, pursuant to 25 U.S.C. 3001 (3)(C), the cultural item described above is a specific ceremonial object needed by traditional Native American religious leaders for the practice of traditional Native American religions by their present-day adherents. Officials of Tumacacori National Historical Park also have determined that, pursuant to 25 U.S.C. 3001 (2), there is a relationship of shared group identity that can be reasonably traced between the sacred object and the Mescalero Apache Tribe of the Mescalero Reservation, New Mexico.

Representatives of any other Indian tribe that believes itself to be culturally affiliated with the sacred object should contact Lisa Carrico, superintendent, Tumacacori National Historical Park, P.O. Box 8067, Tumacacori, AZ 85648, telephone (520) 398-2341 Ext. 52, before October 15, 2009. Repatriation of the sacred object to the Mescalero Apache Tribe of the Mescalero Reservation, New Mexico may proceed after that date if no additional claimants come forward.

Tumacacori National Historical Park is responsible for notifying the Mescalero Apache Tribe of the Mescalero Reservation, New Mexico that this notice has been published.

Dated: July 22, 2009
Sherry Hutt,
Manager, National NAGPRA Program.

[FR Doc. E9-22222 Filed 9-14-09; 8:45 am]

BILLING CODE 4312-50-S